INTERNATIONAL TRADE COMMISSION

[Investigation Nos. 701-TA-451 and 731-TA-1126-1128 (Preliminary)]

Certain Lightweight Thermal Paper From China, Germany, and Korea

AGENCY: United States International Trade Commission.

ACTION: Revised schedule for the subject investigations.

SUMMARY: On September 19, 2007, the Commission established a schedule for the conduct of the subject investigations (72 FR 54926, September 27, 2007). Subsequently, the Department of Commerce extended the date for its initiation of the investigations from October 9 to October 29, 2007. The Commission, therefore, is revising its schedule to conform with Commerce's new schedule.

The Commission's new schedule for the investigations is as follows: The deadline for filing written briefs is October 18, 2007, the administrative deadline for transmitting determinations to Commerce is November 23, 2007, and the Commission's views are due to be transmitted to Commerce on November 30, 2007.

For further information concerning the conduct of these investigations and rules of general application, consult the Commission's Rules of Practice and Procedure, part 201, subparts A through E (19 CFR part 201), and part 207, subparts A and B (19 CFR part 207).

DATES: Effective Date: October 17, 2007.

FOR FURTHER INFORMATION CONTACT: Christopher J. Cassise (202-708-5408), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: These investigations are being conducted under authority of title VII of the Tariff Act of 1930; this notice is published pursuant to § 207.12 of the Commission's rules.

By order of the Commission.
Issued: October 11, 2007.
William R. Bishop,
Acting Secretary to the Commission.

[FR Doc. E7-20397 Filed 10-16-07; 8:45 am]

BILLING CODE 7020-02-P